DEPARTMENT OF TRANSPORTATION

Federal Aviation Administration

14 CFR Parts 47 and 49

Federal Aviation Administration, Civil Aviation Registry, Aircraft Registration Branch Practices Related to the Cape Town Treaty

AGENCY: Federal Aviation Administration (FAA), DOT.

ACTION: Notice in regards to processes at the FAA, Civil Aviation Registry, Aircraft Registration Branch (Registry), in relation to implementation of the Cape Town Treaty (Treaty).

SUMMARY: On January 3, 2005, the FAA published final rules implementing the Cape Town Treaty. on February 17, 2006, the FAA published a notice advising that the Cape Town Treaty becomes effective for the United States on March 1, 2006. The FAA is publishing this document to advise interested persons of certain procedures in the Aircraft Registration Branch related to the Cape Town Treaty.

DATES: Effective Date: March 1, 2006.

FOR FURTHER INFORMATION CONTACT: Walter Binkley, Manager, Aircraft Registration Branch (AFS-750), Mike Monroney Aeronautical Center, Federal Aviation Administration (AFS-750), Post Office Box 25504, Oklahoma City, OK 73125. Telephone (405) 954-3131.

SUPPLEMENTARY INFORMATION: The Cape Town Treaty Implementation Act of 2004, Public Law 108-297, required conforming changes to the regulations concerning registration and deregistration of aircraft, among other things. The amendments have been made and published. The Registry is taking this opportunity to advise interested persons of the Registry's practices for processing certain documents related to the Cape Town Treaty. These matters are largely procedural in nature.

Acceptance of Instruments for Aircraft Objects Subject to the Treaty

Pursuant to amendments made to 14 CFR part 49, to include § 49.63, FAA requires that documents representing transactions meeting the requirements of subpart C of this part accompany the completed Entry Point Filing Form—International Registry, AC Form 8050-135, unless the form is submitted in connection with a notice of a prospective international interest. Because the Treaty does not enter into force for the United States until March 1, 2006, instruments completed prior to March 1, 2006, will continue to be processed in accordance with the Geneva Convention.

Interim List of Eligible Aircraft

Article 2 of the Convention on International Interests in Mobile Equipment provides for an international interest in certain categories of mobile equipment and associated rights. The convention refers to uniquely identifiable objects as designated in the Aircraft protocol to the Convention on International Interests in Mobile Equipment on Matters Specific to Aircraft Equipment (Protocol). Designated aircraft equipment includes:

(1) Airframes, that when appropriate aircraft engines are installed thereon, are type certified by the competent aviation authority to transport at least eight (8) persons including crew; or goods in excess of 2750 kilograms;

(2) Helicopters, heavier-than-air machines, supported in flight chiefly by the reactions of the air on one or more power-driven rotors on substantially vertical axes and which are type certified by the competent aviation authority to transport at least five (5) persons including crew; or goods in excess of 450 kilograms; and

(3) Aircraft engines, powered by jet propulsion or turbine or piston technology and:

(a) in the case of jet propulsion aircraft engines, have at least 1750 lb of thrust or its equivalent; and

(b) in the case of turbine-powered or piston-powered aircraft engines, have at least 550 rated take-off shaft horsepower or its equivalent.

Since a sanctioned comprehensive list prepared by an appropriate authority containing the manufacturer, model and serial number for each aircraft object subject to the Treaty has not yet been provided to the Contracting States; FAA will begin accepting documents related to the Cape Town Treaty on March 1, 2006, based on an interim updatable list of eligible aircraft objects compiled by the FAA. The eligibility of any aircraft object not on the FAA list must be established before FAA will complete processing of documents related to the Cape Town Treaty.

Acceptance of FAA Entry Point Filing Form—International Registry, AC 8050-135

The FAA Civil Aviation Registry was designated by Congress as the exclusive entry point for transmitting information to the International Registry as provided for in the Treaty. The Cape Town Treaty Implementation Act of 2004 (Pub. L. 108-297) directed the FAA to establish a system for filing notices of international and prospective international interests, and authorizing parties to transmit information to the International Registry. To implement these requirements, the Registry requires the submission of a completed FAA Entry Point Filing Form—International Registry, AC Form 8050-135, to issue an authorization code. This code allows for the transmission of information to the International Registry with respect to civil aircraft of the United States, aircraft assigned a U.S. identification number (for prospective interests only), and aircraft engines with a rated takeoff horsepower of at least 550. Pursuant to 14 CFR part 49 subpart F, the acceptance of the FAA Entry Point Filing Form—International Registry, AC 8050-135, does not indicate agreement with or acceptance of any representations on the form.

Irrevocable De-Registration and Export Request Authorization (IDERA)

The Protocol provides for the acceptance and recordation of an IDERA that is substantially in the form annexed to the Protocol. FAA will not accept an IDERA that is not substantially in the form annexed to the Protocol. FAA will not accept an IDERA that is not linked to a specific instrument on file with the FAA. If the IDERA is not attached to and made a part of the instrument it relates to, it must include sufficient detail to identify the instrument (e.g., reference to a recorded conveyance by number) to which it is linked.

Acknowledgment of acceptance of an IDERA by FAA is demonstrated by (1) the recording of the instrument that the IDERA is attached to and made a part of, or (2) if not filed as part of the instrument, but filed at a later time, the IDERA will be stamped with an ID/date stamp of an FAA Legal Instruments Examiner.

Written Certification Regarding Registered Interests Ranking in Priority

A written certification made pursuant to 14 CFR part 47, § 47.47(a)(3), must include the specific language contained in § 47.47(a)(3), in its entirety. However, a written certification made by the aircraft owner may be appropriately varied.

Additional Evidence To Deregister and Export Aircraft Subject to the Treaty

An authorized party under an IDERA on file with the FAA who requests deregistration and export of an aircraft must support the certification made under § 47.47(a)(3) by submitting a copy of the relevant International Registry Search Certificate along with evidence of the consent to export or discharge of lien from each registered lien holder ranking in priority to that of the requester, as evidenced by the Search Certificate.

An aircraft owner eligible to request deregistration and export of an aircraft subject to the Treaty must likewise support the certification made under § 47.47(a)(3) by submitting evidence of the consent to export or discharge of lien from each outstanding lien holder of any consensual lien on file in the aircraft record at the FAA.

The party requesting deregistration and export must be either the aircraft owner, as evidenced by documents on file at the FAA, or the authorized party under an IDERA on file at the FAA.

Issued in Oklahoma City, OK, on February 21, 2006.
Mark Lash,
Manager, Civil Aviation Registry.

[FR Doc. 06-1809 Filed 2-22-06; 3:55 pm]

BILLING CODE 4910-13-M